ENVIRONMENTAL PROTECTION AGENCY

40 CFR Parts 141 and 142

National Primary Drinking Water Regulations: Perchlorate; Proposed Rule

Correction

In proposed rule document 2019-12773 beginning on page 30524 in the issue of Wednesday, June 26, 2019, make the following correction:

On page 30558, in the third column, in the third paragraph, “[INSERT DATE 30 DAYS AFTER DATE OF PUBLICATION IN THE Federal Register]” should read “July 26, 2019”.

[FR Doc. C1-2019-12773 Filed 7-10-19; 8:45 am]

BILLING CODE 1301-00-D